DEPARTMENT OF DEFENSE

Department of the Navy

[Docket ID: USN-2024-HQ-0012]

Proposed Collection; Comment Request

AGENCY: Headquarters Marine Corps (HQMC), Department of the Navy (DON), Department of Defense (DoD).

ACTION: 60-Day information collection notice.

SUMMARY: In compliance with the Paperwork Reduction Act of 1995, the Marine Corps Installations Pacific (MCIPAC) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 17, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Headquarters Marine Corps Records, Reports, Directives, and Forms Management Section, 3000 Marine Corps, Pentagon Rm. 2B253, Mr. Mark Kazzi, (571) 256-8883.

SUPPLEMENTARY INFORMATION:

Title; Associated Form; and OMB Number: Marine Corps Installations Pacific School Visit Program Application; MCIPAC-MCBB Form 5726/1; OMB Control Number 0712-SVPA.

Needs and Uses: Information collection via the MCIPAC-MCBB Form 5726/1, “School Visit Program Application” is necessary to allow local Japanese students to request to visit Marine Corps Bases in Okinawa. The information will be used as part of the school visit program to tailor the specific needs of students when visiting U.S. bases. The form is prepared by the MCIPAC-MCBB, G-7 School Visit Program Manager and filled out by the requesting school's staff facilitators.

Affected Public: Individuals or households.

Annual Burden Hours: 1.25.

Number of Respondents: 15.

Responses per Respondent: 1.

Annual Responses: 15.

Average Burden per Response: 5 minutes.

Frequency: On occasion.

Dated: October 15, 2024.
Aaron T. Siegel,
Alternate OSD Federal Register Liaison Officer, Department of Defense.

[FR Doc. 2024-24129 Filed 10-17-24; 8:45 am]

BILLING CODE 6001-FR-P